DEPARTMENT OF VETERANS AFFAIRS

[OMB Control No. 2900-0107]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 9, 2002.

FOR FURTHER INFORMATION CONTACT: Denise McLamb, Records Management Service (005E3), Department of Veterans Affairs, 810 Vermont Avenue, NW., Washington, DC 20420, (202) 273-8030, FAX (202) 273-5981 or e-mail: denise.mclamb@mail.va.gov. Please refer to “OMB Control No. 2900-0107.”

Send comments and recommendations concerning any aspect of the information collection to VA's OMB Desk Officer, OMB Human Resources and Housing Branch, New Executive Office Building, Room 10235, Washington, DC 20503 (202) 395-7316. Please refer to “OMB Control No. 2900-0107” in any correspondence.

SUPPLEMENTARY INFORMATION: Title: Certificate as to Assets, VA Form 21-4709.

OMB Control Number: 2900-0107.

Type of Review: Extension of a currently approved collection.

Abstract: VA is required to supervise benefits paid to fiduciaries on behalf of beneficiaries who are incompetent or under legal disability. Supervision includes a requirement that the fiduciary account periodically for the funds he/she has received on behalf of the beneficiary. VA Form 21-4709 is used by estate analysts employed by VA to verify investments in saving bonds and other securities reported in the beneficiary's estate.

An agency may not conduct or sponsor, and a person is not required to respond to a collection of information unless it displays a currently valid OMB control number. The Federal Register Notice with a 60-day comment period soliciting comments on this collection of information was published July 30, 2002, at page 49391.

Affected Public: Individuals or households, Business or other for-profit, Not-for-profit institutions, Federal Government and State, Local or Tribal Government.

Estimated Annual Burden: 863 hours.

Estimated Average Burden Per Respondent: 12 minutes.

Frequency of Response: Annually.

Estimated Number of Respondents: 4,316.

Dated: October 15, 2002.
By direction of the Secretary:
Ernesto Castro,
Director, Records Management Service.

[FR Doc. 02-28273 Filed 11-6-02; 8:45 am]

BILLING CODE 8320-01-P